DEPARTMENT OF HEALTH AND HUMAN SERVICES

Administration for Children and Families

[Office of Management and Budget #: 0970-0554]

Submission for Office of Management and Budget Review; Placement and Transfer of Unaccompanied (Alien) Children Into Office of Refugee Resettlement Care Provider Facilities

AGENCY: Office of Refugee Resettlement; Administration for Children and Families; Department of Health and Human Services.

ACTION: Request for public comments.

SUMMARY: The Office of Refugee Resettlement (ORR), Administration for Children and Families (ACF), U.S. Department of Health and Human Services, is inviting public comments on a request to extend approval of forms approved for the Placement and Transfer of Unaccompanied [Alien] Children into ORR Care Provider Facilities. Recently, ORR received emergency approval from the Office of Management and Budget (OMB) for form revisions that ensure that ORR can continue to properly enact its mandates and comply with all applicable authorities related to the placement of unaccompanied alien children into a restrictive placement. That approval updated the current expiration date for all forms under this OMB number to March 31, 2026. This notice includes an extension of approval for all forms under this OMB number, including the forms that were recently approved through emergency approval for 180 days.

DATES: Comments due March 23, 2026.

ADDRESSES: The public may view and comment on this information collection request at: https://www.reginfo.gov/public/do/PRAViewICR?ref_nbr=202602-0970-007. You can also obtain copies of the proposed collection of information by emailing infocollection@acf.hhs.gov. Identify all emailed requests by the title of the information collection.

SUPPLEMENTARY INFORMATION:

Description: ORR is seeking to continue data collection with all forms approved under OMB #: 0970-0554, including those for which OMB recently approved through an emergency approval. This current request is for a one-year extension during which time further revisions will be completed and submitted to OMB. Two public comment periods will take place during that future revision process.

ORR received emergency approval for the below-listed changes to the Notice of Placement in a Restrictive Setting (Form P-4) and Unaccompanied [Alien] Child Referral (aka Intakes Placement Checklist) (Form P-7). The changes are related to current administration priorities, to align the placement criteria in forms with the criteria found in 45 CFR 410.1105 and UAC Policy Guide sections 1.2.4 and 1.4.6 and to meet requirements in the Lucas R. Disabilities Settlement Agreement (Case No. 2:18-CV-05741 DMG PLA), and Flores litigation (Case No. CV85-4544-RJK (C.D. Cal. 1996)). Some of these are nonsubstantive in nature, but were submitted with the items that warranted emergency approval to ensure all updates were available for use as soon as possible. Additional changes were made in response to public comments.

Global Terminology Updates

Update terminology to align with ORR regulations and to comply with Executive Order 14168 Defending Women from Gender Ideology Extremism and Restoring Biological Truth to the Federal Government, as well as other guidance from the current Administration.

Notice of Placement in a Restrictive Setting (Form P-4)

• Reorganize where some information/fields appear in the form for clarity.

• Add a “Disability Considerations” subsection in “Section B: Placement Information” to meet requirements found in the Lucas R. Disabilities Settlement Agreement.

• Remove “Section B: ORR's Determination Related to Safety” to align the form with ORR's regulation and policy guide.

• Update “Section C: Reasons for Restrictive Placement” to align the placement criteria in the form with ORR's regulation and policy guide and to comply with Flores litigation requirements.

• Add “Translation” subsection to “Section E: Acknowledgement and Certification” to help ORR monitor form compliance with translation requirements in its regulation.

In response to public comments:

• Reword the introductory language on the first page to better align with the Unaccompanied Children Program Foundational Rule.

• Add a reminder that all parties must each provide a detailed summary in Section D.

• Add instructions in Section D that all parties must list all the evidence they relied on to make their recommendation.

Unaccompanied [Alien] Child Referral (aka Intakes Placement Checklist) (Form P-7)

ORR has two versions of Form P-7 approved under this information collection. The first version, titled Unaccompanied [Alien] Child Referral, was created for the UAC Path system, which was never implemented. The second version, titled Intakes Placement Checklist, is a PDF version that is currently in use. ORR is only proposing revisions to the PDF version of this form.

• Change form title from “Intakes Placement Checklist” to “Intakes Restrictive Placement Checklist” to better align the form's title with its purpose.

• Reorganize “Section B: Heightened Supervision Facility Criteria” and “Section C: Secure Facility Criteria” for clarity.

• Update criteria and supporting factors in Sections B and C to align with ORR's regulation and policy guide.

• Add follow-up questions in Sections B and C to document what information was relied on the make the placement determination and clarify whether each placement criterion was met.

• Reword field labels and add a field to document the reason for the recommended level of care in “Section D: Placement Determination”

In response to public comments:

• Add fields that allow the user to note what information was in the referral regarding the child having a suspected disability (when applicable)

• Add language clarifying that the evidence used when evaluating a child for placement in a restrictive setting must be saved in the child's case file.

• Add language reiterating the requirement to place children in the least restrictive setting that is in their best interest.

• Add reminders regarding how significant incident reports may and may not be used as a basis for placement in a restrictive setting.

• Remove checkbox options for petty theft and status offenses from Section B, Criterion 3.

• Reword the introductory text in Section C: Secure Facility Criteria to better align with the Unaccompanied Children Program Foundational Rule.

• Reword the supporting factors for Criterion 2 under Section C: Secure Facility Criteria to better align with the Unaccompanied Children Program Foundational Rule.

• Correct an error in which language for heightened supervision facilities was accidentally pasted into the Placement Eligibility section under Section C: Secure Facility Criteria.

• Update the signature block for the Placements Supervisor in Section D: Placement Determination to make clear the Placements Leads may also make final level of care determinations.

Respondents: ORR grantee and contractor staff; unaccompanied alien children; and other federal agencies.

Annual Burden Estimates

These burden estimates include burden related to the revisions described above and currently approved forms for which we are not proposing any changes. ORR updated the burden hours for all forms to reflect a decrease in the number of children referred to ORR and a decrease in the number of care provider facilities. ORR also updated the estimated costs for all forms to reflect more recent wage data from the Bureau of Labor Statistics. Finally, ORR updated the average burden hours per response for the Notice of Placement in a Restrictive Setting (Form P-4) from 0.33 hours to 0.5 hours.

Form P-18 was transferred under Legal and Advocacy Services for Unaccompanied Alien Children (OMB# 0970-0565) when the collection was last approved on May 25, 2025, so the associate burden has been removed from this collection.

Information collection title | Annual number of respondents | Annual number of responses per respondent | Average burden hours per response | Annual total burden hours
Placement Authorization (Form P-1) | 220 | 446 | 0.08 | 7,850
Authorization for Medical, Dental, and Mental Health Care (Form P-2) | 220 | 446 | 0.08 | 7,850
Notice of Placement in a Restrictive Setting (Form P-4) | 6 | 83 | 0.50 | 249
Long Term Foster Care Placement Memo (Form P-5) | 115 | 7 | 0.25 | 201
Unaccompanied [Alien] Child Referral (aka Intakes Restrictive Placement Checklist) (Form P-7) | 40 | 2,394 | 1.00 | 95,760
Care Provider Checklist for Transfers to Influx Care Facilities (Form P-8) | 220 | 2 | 0.25 | 110
Medical Checklist for Non-Influx Transfers (Form P-9A) | 220 | 8 | 0.08 | 141
Medical Checklist for Transfers to Influx Care Facilities (Form P-9B) | 220 | 5 | 0.17 | 187
Transfer Request (Form P-10A)—Grantee Case Manager | 220 | 11 | 0.25 | 605
Transfer Request (Form P-10A)—Contractor Case Coordinator | 275 | 11 | 0.17 | 514
Placement Confirmation (Form P-10B)—Grantee Case Manager | 220 | 11 | 0.17 | 411
Placement Confirmation (Form P-10B)—Contractor Case Coordinator | 275 | 11 | 0.17 | 514
Transfer Summary and Tracking (Form P-11) | 220 | 11 | 0.17 | 411
Bed Configuration Module (Form P-12A) | 220 | 12 | 0.17 | 449
Bed Assignment and Capacity Overview Module (Form P-12B) | 220 | 435 | 0.17 | 16,269
Program Entity (Form P-12C) | 220 | 12 | 0.50 | 1,320
Unaccompanied [Alien] Child Profile (Form P-13) | 220 | 435 | 0.75 | 71,775
ORR Transfer Notification—ORR Notification to ICE Chief Counsel of Transfer of UC and Request to Change Address/Venue (Form P-14) | 220 | 11 | 0.17 | 411
Family Group Entity (Form P-15) | 40 | 75 | 0.08 | 240
Influx Transfer Manifest (Form P-16) | 3 | 12 | 0.33 | 12
Influx Transfer Manual and Prescreen Criteria Review (Form P-17) | 220 | 52,232 | 0.50 | 5,745,520
Estimated Annual Burden Hours Total |  |  |  | 5,950,799

Authority: 6 U.S.C. 279; 8 U.S.C. 1232; 45 CFR part 410; Flores v. Reno Settlement Agreement (No. CV85-4544-RJK (C.D. Cal. 1996)); Lucas R. et al. v. Becerra et al. Disabilities Settlement Agreement (Case No. CV 18-5741-DMG (PLAx)).

Mary C. Jones,
ACF/OPRE Certifying Officer.

[FR Doc. 2026-03282 Filed 2-18-26; 8:45 am]

BILLING CODE 4184-45-P